DEPARTMENT OF THE INTERIOR

National Park Service

[NPS-MWR-CUVA-12176; PPMWMWROW2/PPMPSAS1Y.YP0000]

Notice of Availability of the Final Trail Management Plan/Final Environmental Impact Statement for Cuyahoga Valley National Park, Ohio

AGENCY: National Park Service, Interior.

ACTION: Notice of availability.

SUMMARY: The National Park Service (NPS) announces the availability of the Final Trail Management Plan/Environmental Impact Statement (TMP/EIS) for Cuyahoga Valley National Park, Ohio.

DATES: The Final TMP/EIS will remain available for public review for 30 days following the publication of the Notice of Availability in the Federal Register by the Environmental Protection Agency.

ADDRESSES: Copies of the TMP/EIS will be available to the public by request by writing to the Superintendent, Cuyahoga Valley National Park, 15610 Vaughn Road, Brecksville, Ohio 44141. The document is also available on the internet at the NPS Planning, Environment, and Public Comment Web site at http://www.parkplanning.nps.gov/cuyahogatrailplan.

FOR FURTHER INFORMATION CONTACT: Superintendent Stan Austin, Cuyahoga Valley National Park, 15610 Vaughn Road, Brecksville, Ohio 44140, telephone (440) 546-5903.

SUPPLEMENTARY INFORMATION: We, the NPS, announce the availability of the Final TMP/EIS for Cuyahoga Valley National Park, Ohio. This plan will guide the management of trails and associated trail facilities in Cuyahoga Valley National Park for the next 15 years. The Final TMP/EIS considers eight draft conceptual alternatives—a no-action and seven action alternatives, including the NPS preferred alternative. The Final TMP/EIS assesses impacts to water resources, soils, vegetation, wildlife, cultural resources, socioeconomics, visitor use and experience, and park operations.

The preferred alternative in this TMP/EIS provides a vision for trails management that best meets the goals of the plan and minimizes impacts to the resources of Cuyahoga Valley National Park. The preferred alternative (Alternative 5) combines trail elements and facilities from the other action alternatives that the NPS believes would best fit Cuyahoga Valley National Park. The preferred alternative includes elements common to all of the action alternatives, and includes the addition of 37 miles of trails, including 10 miles of trails for off-road bicycle use, increased facilities for trail-side camping, access for river paddling and parking areas, and guidance for the restoration and sustainability of the trail system for the future.

Of the actions that are considered as part of each of the action alternatives, and adopted as part of the preferred alternative, Cuyahoga Valley National Park will establish Sustainable Trail Guidelines to guide the planning and management related to the restoration of existing trails, planning and design for new trails and trail facilities, and maintenance and best management practices. The Guidelines will serve as the Standard Operating Procedure for trail management in Cuyahoga Valley National Park during implementation of the selected alternative of the Trail Plan.

The NPS will make no decision on the Final TMP/EIS until after the expiration of the 30-day period announced above.

Dated: March 28, 2013.
Michael T. Reynolds,
Regional Director, Midwest Region.

[FR Doc. 2013-10422 Filed 5-1-13; 8:45 am]

BILLING CODE 4310-MA-P